DEPARTMENT OF COMMERCE

International Trade Administration

Initiation of Antidumping and Countervailing Duty Administrative Reviews

AGENCY: Enforcement and Compliance, International Trade Administration, Department of Commerce.

SUMMARY: The Department of Commerce (“the Department”) has received requests to conduct administrative reviews of various antidumping and countervailing duty orders and findings with May anniversary dates. In accordance with the Department's regulations, we are initiating those administrative reviews.

DATES: Effective Date: July 1, 2015.

FOR FURTHER INFORMATION CONTACT: Brenda E. Waters, Office of AD/CVD Operations, Customs Liaison Unit, Enforcement and Compliance, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with May anniversary dates.

All deadlines for the submission of various types of information, certifications, or comments or actions by the Department discussed below refer to the number of calendar days from the applicable starting time.

Notice of No Sales

If a producer or exporter named in this notice of initiation had no exports, sales, or entries during the period of review (“POR”), it must notify the Department within 30 days of publication of this notice in the Federal Register. All submissions must be filed electronically at http://access.trade.gov in accordance with 19 CFR 351.303.¹ Such submissions are subject to verification in accordance with section 782(i) of the Tariff Act of 1930, as amended (“the Act”). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review. Rebuttal comments will be due five days after submission of initial comments.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (“Q&V”) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Respondent Selection—Aluminum Extrusions From the People's Republic of China

In the event the Department limits the number of respondents for individual examination in the administrative review of the antidumping duty order on aluminum extrusions from the People's Republic of China (“PRC”), the Department intends to select respondents based on volume data contained in responses to Q&V questionnaires. Further, the Department intends to limit the number of Q&V questionnaires issued in the review based on CBP data for U.S. imports of aluminum extrusions from the PRC. The extremely wide variety of individual types of aluminum extrusion products included in the scope of the order on aluminum extrusions would preclude meaningful results in attempting to determine the largest PRC exporters of subject merchandise by volume. Therefore, the Department will limit the number of Q&V questionnaires issued based on the import values in CBP data which will serve as a proxy for imported quantities. Parties subject to the review to which the Department does not send a Q&V questionnaire may file a response to the Q&V questionnaire by the applicable deadline if they desire to be included in the pool of companies from which the Department will select mandatory respondents. The Q&V questionnaire will be available on the Department's Web site at http://trade.gov/enforcement/news.asp on the date of publication of this notice in the Federal Register. The responses to the Q&V questionnaire must be received by the Department within 14 days of publication of this notice. Please be advised that due to the time constraints imposed by the statutory and regulatory deadlines for antidumping duty administrative reviews, the Department does not intend to grant any extensions for the submission of responses to the Q&V questionnaire. Parties will be given the opportunity to comment on the CBP data used by the Department to limit the number of Q&V questionnaires issued. We intend to release the CBP data under APO to all parties having an APO within seven days of publication of this notice in the Federal Register. The Department invites comments regarding CBP data and respondent selection within five days of placement of the CBP data on the record.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than May 31, 2016.

| Period to be reviewed
Antidumping Duty Proceedings
Canada: Citric Acid and Certain Citric Salts, A-122-853 | 5/1/14-4/30/15
Jungbunzlauer Canada Inc
India: Circular Welded Carbon Steel Pipe and Tubes, A-533-502 | 5/1/14-4/30/15
Lloyds Metals & Engineers Limited and Lloyds Line Pipe Ltd
Lloyds Steel Industries Ltd
Jindal Pipes Limited
Maharashtra Seamless Limited
Ratnamani Metals Tubes Ltd
Tata Iron and Steel Co., Ltd
India: Silicomanganese, A-533-823 | 5/1/14-4/30/15
Nava Bharat Ventures Limited
Universal Ferro and Allied Chemicals, Ltd
Japan: Diffusion-Annealed Nickel-Plated Flat-Rolled Steel Products, A-588-869 | 11/19/13-4/30/15
Toyo Kohan Co., Ltd
Kazakhstan: Silicomanganese, A-834-807 | 5/1/14-4/30/15
Alloy 2000, S.A
Aksu Ferroalloy Plant
Considar, Inc
Transnational Co. Kazuchrome
Republic of Korea: Certain Polyester Staple Fiber, A-580-839 | 5/1/14-4/30/15
Toray Chemical Korea, Inc. (formerly known as Woongjin Chemical Company, Ltd.)
Taiwan:
Certain Stilbenic Optical Brightening Agents, A-583-848 | 5/1/14-4/30/15
Teh Fong Min International Co., Ltd
Taiwan: Polyester Staple Fiber, A-583-833 | 5/1/14-4/30/15
Far Eastern New Century Corporation
The People's Republic of China: Aluminum Extrusions, A-570-967 | 5/1/14-4/30/15
Acro Import and Export Co
Activa International Inc
Allied Maker Limited
Alnan Aluminium Co., Ltd
Aluminicaste Fundicion de Mexico
Atlas Integrated Manufacturing Ltd
Belton (Asia) Development Ltd
Birchwoods (Lin'an) Leisure Products Co., Ltd
Bracalente Metal Products (Suzhou) Co., Ltd
Changshu Changsheng Aluminium Products Co., Ltd
Changzhou Changzheng Evaporator Co., Ltd
Changzhou Tenglong Auto Parts Co., Ltd
China Zhongwang Holdings, Ltd
Chiping One Stop Industrial & Trade Co., Ltd
Classic & Contemporary Inc
Clear Sky Inc
Cosco (J.M.) Aluminium Co., Ltd
Danfoss Micro Channel Heat Exchanger (Jia Xing) Co., Ltd
Dongguan Aoda Aluminum Co., Ltd
Dongguan Dazhan Metal Co., Ltd
Dongguan Golden Tiger Hardware Industrial Co., Ltd
Dragonluxe Limited
Dynamic Technologies China Ltd
Dynabright Int'l Group (HK) Limited
Ever Extend Ent. Ltd
Fenghua Metal Product Factory
First Union Property Limited
FookShing Metal & Plastic Co. Ltd
Foreign Trade Co. of Suzhou New & High-Tech Industrial Development Zone
Foshan City Nanhai Hongjia Aluminum Alloy Co., Ltd
Foshan Golden Source Aluminum Products Co., Ltd
Foshan Guangcheng Aluminium Co., Ltd
Foshan Jinlan Aluminum Co. Ltd
Foshan JMA Aluminum Company Limited
Foshan Sanshui Fenglu Aluminium Co., Ltd
Foshan Shunde Aoneng Electrical Appliances Co., Ltd
Foshan Yong Li Jian Aluminum Co., Ltd
Fujian Sanchuan Aluminum Co., Ltd
Genimex Shanghai, Ltd
Global PMX Dongguan Co., Ltd
Global Point Technology (Far East) Limited
Gold Mountain International Development Limited
Golden Dragon Precise Copper Tube Group, Inc
Gran Cabrio Capital Pte. Ltd
Gree Electric Appliances
GT88 Capital Pte. Ltd
Guang Ya Aluminium Industries (Hong Kong) Ltd
Guang Ya Aluminium Industries Co., Ltd
Guangdong Hao Mei Aluminium Co., Ltd
Guangdong Jianmei Aluminum Profile Company Limited
Guangdong JMA Aluminum Profile Factory (Group) Co., Ltd
Guangdong Nanhai Foodstuffs Imp. & Exp. Co., Ltd
Guangdong Weiye Aluminum Factory Co., Ltd
Guangdong Whirlpool Electrical Appliances Co., Ltd
Guangdong Xingfa Aluminium Co., Ltd
Guangdong Xin Wei Aluminum Products Co., Ltd
Guangdong Yonglijian Aluminum Co., Ltd
Guangdong Zhongya Aluminum Company Limited
Guangzhou Jangho Curtain Wall System Engineering Co., Ltd
Guangzhou Mingcan Die-Casting Hardware Products Co., Ltd
Hangzhou Xingyi Metal Products Co., Ltd
Hanwood Enterprises Limited
Hanyung Alcoba Co., Ltd
Hanyung Alcobis Co., Ltd
Hanyung Metal (Suzhou) Co., Ltd
Hao Mei Aluminum Co., Ltd
Hao Mei Aluminum International Co., Ltd
Hebei Xusen Wire Mesh Products Co., Ltd
Henan New Kelong Electrical Appliances Co., Ltd
Hong Kong Gree Electric Appliances Sales Limited
Honsense Development Company
Hui Mei Gao Aluminum Foshan Co., Ltd
IDEX Dinglee Technology (Tianjin) Co., Ltd
IDEX Technology Suzhou Co., Ltd
IDEX Health
Innovative Aluminium (Hong Kong) Limited
iSource Asia
Jackson Travel Products Co., Ltd
Jangho Curtain Wall Hong Kong Ltd
Jiangmen Qunxing Hardware Diecasting Co., Ltd
Jiangsu Changfa Refrigeration Co., Ltd
Jiangyin Trust International Inc
Jiangyin Xinhong Doors and Windows Co., Ltd
Jiaxing Jackson Travel Products Co., Ltd
Jiaxing Taixin Metal Products Co., Ltd
Jiuyan Co., Ltd
JMA (HK) Company Limited
Justhere Co., Ltd
Kam Kiu Aluminium Products Sdn. Bhd
Kanal Precision Aluminum Product Co., Ltd
Karlton Aluminum Company Ltd
Kong Ah International Company Limited
Kromet International, Inc
Kunshan Giant Light Metal Technology Co., Ltd
Liaoning Zhongwang Group Co., Ltd
Liaoyang Zhongwang Aluminum Profile Co. Ltd
Longkou Donghai Trade Co., Ltd
Metaltek Group Co., Ltd
Metaltek Metal Industry Co., Ltd
Midea Air Conditioning Equipment Co., Ltd
Midea International Training Co., Ltd./Midea International Trading Co., Ltd
Miland Luck Limited
Nanhai Textiles Import & Export Co., Ltd
New Asia Aluminum & Stainless Steel Product Co., Ltd
New Zhongya Aluminum Factory
Nidec Sankyo (Zhejang) Corporation
Nidec Sankyo Singapore Pte. Ltd
Ningbo Coaster International Co., Ltd
Ningbo Hi Tech Reliable Manufacturing Company
Ningbo Ivy Daily Commodity Co., Ltd
Ningbo Yili Import and Export Co., Ltd
North China Aluminum Co., Ltd
North Fenghua Aluminum Ltd
Northern States Metals
PanAsia Aluminium (China) Limited
Pengcheng Aluminum Enterprise Inc
Permasteelisa Hong Kong Limited
Permasteelisa South China Factory
Pingguo Aluminum Company Limited
Pingguo Asia Aluminum Co., Ltd
Popular Plastics Co., Ltd
Press Metal International Ltd
Samuel, Son & Co., Ltd
Sanchuan Aluminum Co., Ltd
Shangdong Huasheng Pesticide Machinery Co
Shangdong Nanshan Aluminum Co., Ltd
Shanghai Automobile Air-Conditioner Accessories Co., Ltd
Shanghai Canghai Aluminum Tube Packaging Co., Ltd
Shanghai Dongsheng Metal
Shanghai Shen Hang Imp & Exp Co., Ltd
Shanghai Tongtai Precise Aluminum Alloy Manufacturing Co., Ltd
Shenyang Yuanda Aluminium Industry Engineering Co. Ltd
Shenzhen Hudson Technology Development Co
Shenzhen Jiuyuan Co., Ltd
Sihui Shi Guo Yao Aluminum Co., Ltd
Sincere Profit Limited
Skyline Exhibit Systems (Shanghai) Co., Ltd
Southwest Aluminum (Group) Co., Ltd
Suzhou JRP Import & Export Co., Ltd
Suzhou NewHongJi Precision Part Co., Ltd
TAI-AO Aluminium (Taishan) Co., Ltd
Taishan City Kam Kiu Aluminium Extrusion Co., Ltd
Taizhou Lifeng Manufacturing Co., Ltd
Taizhou United Imp. & Exp. Co., Ltd
tenKsolar (Shanghai) Co., Ltd
Tianjin Ganglv Nonferrous Metal Materials Co., Ltd
Tianjin Jinmao Import & Export Corp., Ltd
Tianjin Ruixin Electric Heat Transmission Technology, Ltd
Tianjin Xiandai Plastic & Aluminum Products Co., Ltd
Tiazhou Lifeng Manufacturing Corporation/Taizhou Lifeng Manufacturing Corporation, Ltd
Top-Wok Metal Co., Ltd
Traffic Brick Network, LLC
Union Aluminum (SIP) Co
Union Industry (Asia) Co., Ltd
USA Worldwide Door Components (PINGHU) Co., Ltd
Wenzhou Shengbo Decoration & Hardware
Whirlpool (Guangdong)
Whirlpool Canada L.P.
Whirlpool Microwave Products Development Ltd
WTI Building Products, Ltd
Xin Wei Aluminum Co
Xin Wei Aluminum Company Limited
Xinya Aluminum & Stainless Steel Product Co., Ltd
Zahoqing China Square Industry Limited/Zhaoqing China Square Industry Limited
Zhaoqing Asia Aluminum Factory Company Ltd
Zhaoqing China Square Industrial Ltd
Zhaoqing New Zhongya Aluminum Co., Ltd
Zhejiang Anji Xinxiang Aluminum Co., Ltd
Zhejiang Yongkang Listar Aluminium Industry Co., Ltd
Zhejiang Zhengte Group Co., Ltd
Zhenjiang Xinlong Group Co., Ltd
Zhongshan Daya Hardware Co., Ltd
Zhongshan Gold Mountain Aluminium Factory Ltd
Zhongya Shaped Aluminium (HK) Holding Limited
Zhuhai Runxingtai Electrical Equipment Co., Ltd
The People's Republic of China: Certain Activated Carbon ⁴, A-570-904 | 4/1/14-3/31/15
Jacobi Carbons Industry (Tianjin)
The People's Republic of China: Citric Acid and Certain Citrate Salts, A-570-937 | 5/1/14-4/30/15
Laiwu Taihe Biochemistry Co., Ltd
RZBC Co., Ltd
RZBC Import & Export Co., Ltd
RZBC (Juxian) Co., Ltd
The People's Republic of China: Drawn Stainless Steel Sinks ⁵, A-570-983 | 4/1/14-3/31/15
Zhuhai Kohler Kitchen & Bathroom Products Co., Ltd
The People's Republic of China: Pure Magnesium, A-570-832 | 5/1/14-4/30/15
Tianjin Magnesium International Co., Ltd. (“TMI”)
Tianjin Magnesium Metal Co., Ltd. (“TMM”)
Turkey: Circular Welded Carbon Steel Pipes and Tubes, A-489-501 | 5/1/14-4/30/15
Borusan Mannesmann Boru Sanayi ve Ticaret A.S
Borusan Birlesik Boru Fabrikalari San ve Tic
Borusan Istikbal Ticaret T.A.S
Borusan Gemlik Boru Tesisleri A.S
Borusan Iharcat Ithalat ve Dagitim A.S
Borusan Ithicat ve Dagitim A.S
Tubeco Pipe and Steel Corporation
Erbosan Erciyas Boru Sanayi ve Ticaret A.S
Toscelik Profil ve Sac Endustrisi A.S
Toscelik Metal Ticaret A.S
Tosyali Dis Ticaret A.S
Yucel Boru ve Profil Endustrisi A.S
Yucelboru Ihracat Ithalat ve Pazarlama A.S
Caryirova Boru Sanayi ve Ticaret A.S
Turkey: Light-Walled Rectangular Pipe and Tube, A-489-815 | 5/1/14-4/30/15
Agir Haddecilik A.S
United Arab Emirates: Certain Steel Nails, A-520-804 | 5/1/14-4/30/15
Dubai Wire FZE
Oman Fasteners LLC
Overseas Distribution Services Inc
Overseas International Steel Industry LLC
Precision Fasteners LLC
Venezuela: Silicomanganese, A-307-820 | 5/1/14-4/30/15
FerroAtlantica S.A
FerroAtlantica de Venezuela
Hornos Electricos de Venezuela
Countervailing Duty Proceedings
The People's Republic of China: Aluminum Extrusions, C-570-968 | 1/1/14-12/31/14
A-Plus Industries Ltd
Acro Import and Export Co
Activa International Inc
Allied Maker Limited
Alnan Aluminium Co., Ltd
Aluminicaste Fundicion de Mexico
Asia Pacific Industrial (Group) Co., Ltd
Birchwoods (Lin'an) Leisure Products Co., Ltd
Bracalente Metal Products (Suzhou) Co. Ltd
Changshu Changsheng Aluminum Products Co., Ltd
Changzhou Changzhen Evaporator Co., Ltd
Changzhou Jinxi Machinery Co., Ltd
Changzhou Tenglong Auto Parts Co., Ltd
China Zhongwang Holdings, Ltd
Chiping One Stop Industrial & Trade Co., Ltd
Classic & Contemporary Inc
Clear Sky Inc
Cosco (J.M.) Aluminum Co., Ltd
Danfoss Micro Channel Heat Exchanger (Jia Xing) Co. Ltd
Dongguan Aoda Aluminum Co., Ltd
Dongguan Dazhan Metal Co., Ltd
Dongguan Golden Tiger Hardware Industrial Co., Ltd
Dragonluxe Limited
Dynabright International Group (HK) Limited
Dynamic Technologies China
Ever Extend Ent. Ltd
ETLA Technology (Wuxi) Co., Ltd
Fenghua Metal Product Factory
First Union Property Limited
Foreign Trade Co. of Suzhou New & Hi-Tech Industrial Development Zone
Foshan City Nanhai Hongjia Aluminum Alloy Co., Ltd
Foshan Golden Source Aluminum Products Co., Ltd
Foshan Guancheng Aluminium Co., Ltd
Foshan Jinlan Aluminum Co. Ltd
Foshan JMA Aluminum Company Limited
Foshan Shanshui Fenglu Aluminum Co., Ltd
Foshan Shunde Aoneng Electrical Appliances Co., Ltd
Foshan Yong Li Jian Aluminum Co., Ltd
Fujian Sanchuan Aluminum Co., Ltd
Genimex Shanghai, Ltd
Global Hi-Tek Precision Limited
Global PMX Dongguan Co., Ltd
Global Point Technology (Far East) Limited
Gold Mountain International Development, Ltd
Golden Dragon Precise Copper Tube Group, Inc
Gran Cabrio Capital Pte. Ltd
Gree Electric Appliances
GT88 Capital Pte. Ltd
Guang Ya Aluminium Industries (HK) Ltd
Guang Ya Aluminium Industries Co., Ltd
Guangdong Hao Mei Aluminum Co., Ltd
Guangdong Jianmei Aluminum Profile Company Limited
Guangdong JMA Aluminum Profile Factory (Group) Co., Ltd
Guangdong Nanhai Foodstuffs Imp. & Exp. Co., Ltd
Guangdong Weiye Aluminum Factory Co., Ltd
Guangdong Whirlpool Electrical Appliances Co., Ltd
Guangdong Xingfa Aluminum Co., Ltd
Guangdong Xin Wei Aluminum Products Co., Ltd
Guangdong Yonglijian Aluminum Co., Ltd
Guangdong Zhongya Aluminum Company Limited
Guangzhou Jangho Curtain Wall System Engineering Co., Ltd
Guangzhou Mingcan Die-Casting Hardware Products Co., Ltd
Hangzhou Xingyi Metal Products Co., Ltd
Hanwood Enterprises Limited
Hanyung Alcoba Co., Ltd
Hanyung Alcobis Co., Ltd
Hanyung Metal (Suzhou) Co., Ltd
Hao Mei Aluminum Co., Ltd
Hao Mei Aluminum International Co., Ltd
Hebei Xusen Wire Mesh Products Co., Ltd
Henan New Kelong Electrical Appliances Co., Ltd
Hong Kong Gree Electric Appliances Sales Limited
Honsense Development Company
Hui Mei Gao Aluminum Foshan Co., Ltd
Idex Dinglee Technology (Tianjin) Co., Ltd
Idex Health
IDEX Technology Suzhou Co., Ltd
Innovative Aluminum (Hong Kong) Limited
iSource Asia
Jackson Travel Products Co., Ltd
Jangho Curtain Wall Hong Kong Ltd
Jiangmen Qunxing Hardware Diecasting Co., Ltd
Jiangsu Changfa Refrigeration Co., Ltd
Jiangsu Susun Group (HK) Co., Ltd
Jiangsu Zhenhexiang New Material Technology Co., Ltd
Jiangsu Shengrun Industry Co, Ltd
Jiangyin Trust International Inc
Jiangyin Xinhong Doors and Windows Co., Ltd
Jiaxing Jackson Travel Products Co., Ltd
Jiaxing Taixin Metal Products Co., Ltd
Jiuyan Co., Ltd
JMA (HK) Company Limited
Johnson Precision Engineering (Suzhou) Co Ltd
Justhere Co., Ltd
Kam Kiu Aluminum Products Sdn Bhd
Kanal Precision Aluminum Product Co., Ltd
Karlton Aluminum Company Ltd
Kong Ah International Company Limited
Kromet International Inc
Kunshan Giant Light Metal Technology Co., Ltd
Liaoning Zhongwang Group Co., Ltd
Liaoyang Zhongwang Aluminum Profile Co. Ltd
Longkou Donghai Trade Co., Ltd
Markem Imaje China (China) Co. Ltd
Metaltek Group Co., Ltd
Metaltek Metal Industry Co., Ltd
Midea Air Conditioning Equipment Co., Ltd
Midea International Training Co., Ltd./Midea International Trading Co., Ltd
Miland Luck Limited
Nanhai Textiles Import & Export Co., Ltd
New Asia Aluminum & Stainless Steel Product Co., Ltd
New Zhongya Aluminum Factory
Nidec Sankyo Singapore Pte. Ltd
Nidec Sankyo (Zhejiang) Corporation
Ningbo Coaster International Co., Ltd
Ningbo Haina Machine Co., Ltd
Ningbo Hi Tech Reliable Manufacturing Company
Ningbo Innopower Tengda Machinery Co., Ltd
Ningbo Ivy Daily Commodity Co., Ltd
Ningbo Yili Import and Export Co., Ltd
Ningbo Yinzhou Sanhua Electric Machine Factory
North China Aluminum Co., Ltd
North Fenghua Aluminum Ltd
Northern States Metals
PanAsia Aluminum (China) Limited
Pengcheng Aluminum Enterprise Inc
Permasteelisa Hong Kong Ltd
Permasteelisa South China Factory
Pingguo Aluminum Company Limited
Pingguo Asia Aluminum Co., Ltd
Popular Plastics Company Limited
Precision Metal Works LTD
Press Metal International Ltd
Samuel, Son & Co., Ltd
Sanchuan Aluminum Co., Ltd
Sapa Profiles (Shanghai) Co., Ltd
Shangdong Huasheng Pesticide Machinery Co
Shangdong Nanshan Aluminum Co., Ltd
Shanghai Automobile Air-Conditioner Accessories Co., Ltd
Shanghai Canghai Aluminum Tube Packaging Co., Ltd
Shanghai Dongsheng Metal
Shanghai Shen Hang Imp & Exp Co., Ltd
Shanghai Tongtai Precise Aluminum Alloy Manufacturing Co., Ltd
Shenyang Yuanda Aluminum Industry Engineering Co., Ltd
Shenzhen Hudson Technology Development Co., Ltd
Shenzhen Jiuyuan Co., Ltd
Shunhai International (HK) Limited
Sihui Shi Guo Yao Aluminum Co., Ltd
Sincere Profit Limited
Summit Heat Sinks Metal Co., Ltd
Skyline Exhibit Systems (Shanghai) Co., Ltd
Suzhou JRP Import & Export Co., Ltd
Suzhou New Hongji Precision Part Co
Tai-Ao Aluminum (Taishan) Co. Ltd
Taishan City Kam Kiu Aluminium Extrusion Co., Ltd
Taizhou Lifeng Manufacturing Co., Ltd
Taizhou United Imp. & Exp. Co. Ltd
tenKsolar (Shanghai) Co., Ltd
Tianjin Ganglv Nonferrous Metal Materials Co., Ltd
Tianjin Jinmao Import & Export Corp., Ltd
Tianjin Ruxin Electric Heat Transmission Technology Co., Ltd
Tianjin Xiandai Plastic & Aluminum Products Co., Ltd
Tiazhou Lifeng Manufacturing Corporation/Taizhou Lifeng Manufacturing Co., Ltd
Top-Wok Metal Co., Ltd
Traffic Brick Network, LLC
Union Industry (Asia) Co., Ltd
USA Worldwide Door Components (Pinghu) Co., Ltd
Wenzhou Shengbo Decoration & Hardware
Whirlpool (Guangdong)
Whirlpool Canada
Whirlpool Microwave Products Development Ltd
WTI Building Products, Ltd
Wuxi Huida Aluminum Co., Ltd
Xin Wei Aluminum Co
Xin Wei Aluminum Company Limited
Xinya Aluminum & Stainless Steel Product Co., Ltd
Yongji Guanghai Aluminium Industry Co., Ltd
Zahoqing China Square Industry Limited/Zhaoqing China Square Industry Limited
Zhaoqing Asia Aluminum Factory Company Ltd
Zhaoqing China Square Industrial Ltd
Zhaoqing New Zhongya Aluminum Co., Ltd
Zhejiang Anji Xinxiang Aluminum Co., Ltd
Zhejiang Dongfeng Refrigeration Components Co., Ltd
Zhejiang Yongkang Listar Aluminum Industry Co., Ltd.
Zhejiang Zhengte Group Co., Ltd
Zhenjiang Xinlong Group Co., Ltd
Zhongshan Daya Hardware Co., Ltd
Zhongshan Gold Mountain Aluminum Factory Ltd
Zhongya Shaped Aluminum (HK) Holding Limited
Zhuhai Runxingtai Electrical Equipment Co., Ltd
The People's Republic of China: Certain Magnesia Carbon Bricks ⁶, C-570-955 | 1/1/13-12/31/13
Fengchi Mining Co., Ltd. of Haicheng City
The People's Republic of China: Citric Acid and Certain Salts, C-570-938 | 1/1/14-12/31/14
Laiwu Taihe Biochemistry Co., Ltd
RZBC Group Shareholding Co., Ltd
RZBC Co., Ltd
RZBC Imp. & Exp. Co., Ltd
RZBC (Juxian) Co., Ltd
Suspension Agreements
None

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

⁴ The company listed above was inadvertently not included in the initiation notice that published on May 26, 2015 (80 FR 30041).

⁵ The name of the company listed below was misspelled in the initiation notice that published on May 26, 2015 (80 FR 30041). The correct spelling of the company name is listed in this notice.

⁶ The name of the company listed below was misspelled in the initiation notice that published on November 10, 2014 (79 FR 66694). The correct spelling of the company name is listed in this notice.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: The definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://enforcement.trade.gov/frn/2013/1304frn/2013-08227.txt, prior to submitting factual information in this segment.

Any party submitting factual information in an antidumping duty or countervailing duty proceeding must certify to the accuracy and completeness of that information.⁷ Parties are hereby reminded that revised certification requirements are in effect for company/government officials as well as their representatives. All segments of any antidumping duty or countervailing duty proceedings initiated on or after August 16, 2013, should use the formats for the revised certifications provided at the end of the Final Rule.⁸ The Department intends to reject factual submissions in any proceeding segments if the submitting party does not comply with applicable revised certification requirements.

⁷ See section 782(b) of the Act.

⁸ See Certification of Factual Information To Import Administration During Antidumping and Countervailing Duty Proceedings, 78 FR 42678 (July 17, 2013) (“Final Rule”); see also the frequently asked questions regarding the Final Rule, available at http://enforcement.trade.gov/tlei/notices/factual_info_final_rule_FAQ_07172013.pdf.

Revised Extension of Time Limits Regulation

On September 20, 2013, the Department modified its regulation concerning the extension of time limits for submissions in antidumping and countervailing duty proceedings: Final Rule, 78 FR 57790 (September 20, 2013). The modification clarifies that parties may request an extension of time limits before a time limit established under part 351 expires, or as otherwise specified by the Secretary. In general, an extension request will be considered untimely if it is filed after the time limit established under part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: June 25, 2015.
Christian Marsh,
Deputy Assistant Secretary for Antidumping and Countervailing Duty Operations.

[FR Doc. 2015-16248 Filed 6-30-15; 8:45 am]

BILLING CODE 3510-DS-P